DEPARTMENT OF COMMERCE

International Trade Administration

[A-533-840]

Certain Frozen Warmwater Shrimp From India: Notice of Correction to the Final Results of the 2015-2016 Antidumping Duty Administrative Review

AGENCY: Enforcement and Compliance, International Trade Administration, Department of Commerce.

FOR FURTHER INFORMATION CONTACT: Blaine Wiltse or Manuel Rey, AD/CVD Operations, Office II, Enforcement and Compliance, International Trade Administration, U.S. Department of Commerce, 1401 Constitution Avenue NW., Washington, DC 20230; telephone: (202) 482-6345 or (202) 482-5518, respectively.

SUPPLEMENTARY INFORMATION: On September 5, 2017, the Department of Commerce (the Department) issued the final results of the administrative review of the antidumping duty order on certain frozen warmwater shrimp from India for the period of review February 1, 2015, through January 31, 2016. However, that document contained an incorrect list of companies covered by the review. This notice provides the correct list of company names.

Final Results of the Review

We are assigning the following dumping margins to the firms listed below for the period February 1, 2015, through January 31, 2016:

Manufacturer/exporter | Percent margin
Falcon Marine Exports Limited/K.R. Enterprises | 0.00
The Liberty Group | 0.84

Review-Specific Average Rate Applicable to the Following Companies:

Manufacturer/exporter | Percent margin
Abad Fisheries | 0.84
Adilakshmi Enterprises | 0.84
Akshay Food Impex Pvt., Limited | 0.84
Alashore Marine Exports (P) Ltd | 0.84
Allana Frozen Foods Pvt. Ltd | 0.84
Allanasons Ltd | 0.84
AMI Enterprises | 0.84
Amulya Seafoods | 0.84
Anand Aqua Exports | 0.84
Ananda Aqua Applications/Ananda Aqua Exports (P) Limited/Ananda Foods | 0.84
Ananda Enterprises (India) Private Limited | 0.84
Angelique Intl | 0.84
Anjaneya Seafoods | 0.84
Apex Frozen Foods Private Limited | 0.84
Aquatica Frozen Foods Global Pvt. Ltd | 0.84
Arvi Import & Export | 0.84
Asvini Exports | 0.84
Asvini Fisheries Private Limited | 0.84
Avanti Feeds Limited | 0.84
Ayshwarya Seafood Private Limited | 0.84
B-One Business House Pvt. Ltd | 0.84
B R Traders | 0.84
Baby Marine Exports | 0.84
Baby Marine International | 0.84
Baby Marine Sarass | 0.84
Baby Marine Ventures | 0.84
Balasore Marine Exports Private Limited | 0.84
Bay Seafoods | 0.84
Bhatsons Aquatic Products | 0.84
Bhavani Seafoods | 0.84
Bijaya Marine Products | 0.84
Blue Fin Frozen Foods Pvt. Ltd | 0.84
Blue Water Foods & Exports P. Ltd | 0.84
Bluepark Seafoods Private Ltd | 0.84
BMR Exports | 0.84
BMR Industries Private Limited | 0.84
Britto Exports | 0.84
C P Aquaculture (India) Ltd | 0.84
Calcutta Seafoods Pvt. Ltd | 0.84
Canaan Marine Products | 0.84
Capithan Exporting Co. | 0.84
Cargomar Private Limited | 0.84
Castlerock Fisheries Ltd | 0.84
Chemmeens (Regd) | 0.84
Cherukattu Industries (Marine Div.) | 0.84
Choice Canning Company | 0.84
Choice Trading Corporation Private Limited | 0.84
Coastal Aqua | 0.84
Coastal Corporation Ltd | 0.84
Cochin Frozen Food Exports Pvt. Ltd | 0.84
Coreline Exports | 0.84
Corlim Marine Exports Pvt. Ltd | 0.84
D2 D Logistics Private Limited | 0.84
Damco India Private Limited | 0.84
Delsea Exports Pvt. Ltd | 0.84
Devi Aquatech Private Limited | 0.84
Devi Fisheries Limited/Satya Seafoods Private Limited/Usha Seafoods | 0.84
Devi Sea Foods Limited ¹ | 0.84
Diamond Seafoods Exports/Edhayam Frozen Foods Pvt. Ltd/Kadalkanny Frozen Foods/Theva & Company | 0.84
Esmario Export Enterprises | 0.84
Exporter Coreline Exports | 0.84
Febin Marine Foods | 0.84
Five Star Marine Exports Private Limited | 0.84
Forstar Frozen Foods Pvt. Ltd | 0.84
Frontline Exports Pvt. Ltd | 0.84
G A Randerian Ltd | 0.84
Gadre Marine Exports | 0.84
Galaxy Maritech Exports P. Ltd | 0.84
Gayatri Seafoods | 0.84
Geo Aquatic Products (P) Ltd | 0.84
Geo Seafoods | 0.84
Goodwill Enterprises | 0.84
Grandtrust Overseas (P) Ltd | 0.84
GVR Exports Pvt. Ltd | 0.84
Haripriya Marine Export Pvt. Ltd | 0.84
Harmony Spices Pvt. Ltd | 0.84
HIC ABF Special Foods Pvt. Ltd | 0.84
Hindustan Lever, Ltd | 0.84
Hiravata Ice & Cold Storage | 0.84
Hiravati Exports Pvt. Ltd | 0.84
Hiravati International Pvt. Ltd (located at APM—Mafco Yard, Sector—18, Vashi, Navi, Mumbai—400 705, India) | 0.84
Hiravati International Pvt. Ltd (located at Jawar Naka, Porbandar, Gujarat, 360 575, India) | 0.84
IFB Agro Industries Ltd | 0.84
Indian Aquatic Products | 0.84
Indo Aquatics | 0.84
Indo Fisheries | 0.84
Indo French Shellfish Company Private Limited | 0.84
Innovative Foods Limited | 0.84
International Freezefish Exports | 0.84
Interseas | 0.84
ITC Limited, International Business | 0.84
ITC Ltd | 0.84
Jagadeesh Marine Exports | 0.84
Jaya Satya Marine Exports | 0.84
Jaya Satya Marine Exports Pvt. Ltd | 0.84
Jaya Lakshmi Sea Foods Pvt. Limited | 0.84
Jinny Marine Traders | 0.84
Jiya Packagings | 0.84
K R M Marine Exports Ltd | 0.84
K V Marine Exports | 0.84
Kalyan Aqua & Marine Exp. India Pvt. Ltd | 0.84
Kalyanee Marine | 0.84
Kanch Ghar | 0.84
Karunya Marine Exports Private Limited | 0.84
Kay Kay Exports | 0.84
Kay Kay Exports (Kay Kay Foods) | 0.84
Kings Marine Products | 0.84
KNC Agro Limited | 0.84
Koluthara Exports Ltd | 0.84
Landauer Ltd | 0.84
Libran Cold Storages (P) Ltd | 0.84
Magnum Estates Limited | 0.84
Magnum Export | 0.84
Magnum Sea Foods Limited | 0.84
Malabar Arabian Fisheries | 0.84
Malnad Exports Pvt. Ltd | 0.84
Mangala Marine Exim India Pvt. Ltd | 0.84
Mangala Seafoods | 0.84
Mangala Sea Products | 0.84
Marine Harvest India | 0.84
Meenaxi Fisheries Pvt. Ltd | 0.84
Milesh Marine Exports Private Limited | 0.84
MSRDR Exports | 0.84
MTR Foods | 0.84
Munnangi Sea Foods Pvt. Ltd | 0.84
N.C. John & Sons (P) Ltd | 0.84
Naga Hanuman Fish Packers | 0.84
Naik Frozen Foods Private Limited | 0.84
Naik Seafoods Ltd | 0.84
Navayuga Exports | 0.84
Neeli Aqua Private Limited | 0.84
Nekkanti Sea Foods Limited | 0.84
Nezami Rekha Sea Foods Private Limited | 0.84
NGR Aqua International | 0.84
Nila Sea Foods Exports | 0.84
Nila Sea Foods Pvt. Ltd | 0.84
Nine Up Frozen Foods | 0.84
Nutrient Marine Foods Ltd | 0.84
Oceanic Edibles International Limited | 0.84
Overseas Marine Export | 0.84
Paragon Sea Foods Pvt. Ltd | 0.84
Paramount Seafoods | 0.84
Parayil Food Products Pvt. Ltd | 0.84
Penver Products Pvt. Ltd | 0.84
Pesca Marine Products Pvt. Ltd | 0.84
Pijikay International Exports P Ltd | 0.84
Pisces Seafood International | 0.84
Premier Exports International | 0.84
Premier Marine Foods | 0.84
Premier Seafoods Exim (P) Ltd | 0.84
R V R Marine Products Limited | 0.84
Raa Systems Pvt. Ltd | 0.84
Raju Exports | 0.84
Ram's Assorted Cold Storage Ltd | 0.84
Raunaq Ice & Cold Storage | 0.84
Raysons Aquatics Pvt. Ltd | 0.84
Razban Seafoods Ltd | 0.84
RBT Exports | 0.84
RDR Exports | 0.84
RF Exports | 0.84
Riviera Exports Pvt. Ltd | 0.84
Rohi Marine Private Ltd | 0.84
S & S Seafoods | 0.84
S Chanchala Combines | 0.84
S.A. Exports | 0.84
S.J. Seafoods | 0.84
Safa Enterprises | 0.84
Sagar Foods | 0.84
Sagar Grandhi Exports Pvt. Ltd | 0.84
Sagar Samrat Seafoods | 0.84
Sagarvihar Fisheries Pvt. Ltd | 0.84
Sai Marine Exports Pvt. Ltd | 0.84
Sai Sea Foods | 0.84
Salvam Exports (P) Ltd | 0.84
Sanchita Marine Products Private Limited | 0.84
Sandhya Aqua Exports | 0.84
Sandhya Aqua Exports Pvt. Ltd | 0.84
Sandhya Marines Limited | 0.84
Santhi Fisheries & Exports Ltd | 0.84
Sarveshwari Exports | 0.84
Sawant Food Products | 0.84
Sea Foods Private Limited | 0.84
Seagold Overseas Pvt. Ltd | 0.84
Selvam Exports Private Limited | 0.84
Sharat Industries Ltd | 0.84
Sharma Industries | 0.84
Shimpo Exports Pvt. Ltd | 0.84
Shippers Exports | 0.84
Shiva Frozen Food Exports Pvt. Ltd | 0.84
Shree Datt Aquaculture Farms Pvt. Ltd | 0.84
Shroff Processed Food & Cold Storage P Ltd | 0.84
Silver Seafood | 0.84
Sita Marine Exports | 0.84
Sowmya Agri Marine Exports | 0.84
Sprint Exports Pvt. Ltd | 0.84
Sri Chandrakantha Marine Exports | 0.84
Sri Sakkthi Cold Storage | 0.84
Sri Satya Marine Exports | 0.84
Sri Venkata Padmavathi Marine Foods Pvt. Ltd | 0.84
Srikanth International | 0.84
Star Agro Marine Exports Private Limited | 0.84
Star Organic Foods Incorporated | 0.84
Sterling Foods | 0.84
Sun-Bio Technology Ltd | 0.84
Sunrise Aqua Food Exports | 0.84
Supran Exim Private Limited | 0.84
Suryamitra Exim Pvt. Ltd | 0.84
Suvarna Rekha Exports Private Limited | 0.84
Suvarna Rekha Marines P Ltd | 0.84
TBR Exports Pvt Ltd | 0.84
Teekay Marine P Ltd | 0.84
The Waterbase Ltd | 0.84
Triveni Fisheries P Ltd | 0.84
U & Company Marine Exports | 0.84
Uniroyal Marine Exports Ltd | 0.84
Unitriveni Overseas | 0.84
V V Marine Products | 0.84
V.S. Exim Pvt Ltd | 0.84
Vasista Marine | 0.84
Veejay Impex | 0.84
Veerabhadra Exports Private Limited | 0.84
Veronica Marine Exports Private Limited | 0.84
Victoria Marine & Agro Exports Ltd | 0.84
Vinner Marine | 0.84
Vishal Exports | 0.84
Vitality Aquaculture Pvt., Ltd | 0.84
Wellcome Fisheries Limited | 0.84
West Coast Frozen Foods Private Limited | 0.84
Z A Sea Foods Pvt. Ltd | 0.84
¹ Shrimp produced and exported by Devi Sea Foods (Devi) was excluded from the antidumping duty order on frozen warmwater shrimp from India effective February 1, 2009. See Certain Frozen Warmwater Shrimp from India: Final Results of Antidumping Duty Administrative Review, Partial Rescission of Review, and Notice of Revocation of Order in Part, 75 FR 41813, 41814 (July 19, 2010). Accordingly, we are conducting this administrative review with respect to Devi only for shrimp produced in India where Devi acted as either the manufacturer or exporter (but not both).

This correction to the final results of administrative review is issued and published in accordance with sections 751(a)(1) and 777(i)(1) of the Tariff Act of 1930, as amended.

Dated: September 12, 2017.
Gary Taverman,
Deputy Assistant Secretary for Antidumping and Countervailing Duty Operations, performing the non-exclusive functions and duties of the Assistant Secretary for Enforcement and Compliance.

[FR Doc. 2017-19913 Filed 9-18-17; 8:45 am]

BILLING CODE 3510-DS-P